FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Continental Van Lines, Inc., dba Continental International 4501 West Marginal Way SW., Seattle, WA 98124, Officers: John G. Blaine, President, (Qualifying Individual), Virginia M. Blaine, Vice President

Fusion Freight, Inc., 8181 NW. 36 Street, Doral, FL 33166, Officer: Luis A. Nunez, President (Qualifying Individual)

Non-Vessel Operating Common Carrier and Ocean Freight Forwarder Transportation Intermediary Applicants

SPI International Transportation (U.S.A.) Corp., dba SPI International Transportation, 41661 Enterprises Circle North, Temccula, CA 92590, Officers: Steven P. Rubin, Dir. U.S. Opera., (Qualifying Individual), James L. Taggart, Treasurer

International TLC, 11508 SE. 189th Ln., Renton, WA 98055, Aleksandr Barvinenko, Sole Proprietor

Baltic Auto Shipping Inc., 1923 N. Broadway Street, Crest Hill, IL 60435, Officer: Andrejus Presiniakovas, President, (Qualifying Individual)

Cargo Logistics & Trade Solutions, LLC, 13355 NW 4th Street, Opa-Locka, FL 33054, Officer: Michael L. DeBartolo, Managing Member, (Qualifying Individual)

Independent Freight International LLC, 2244 Landmeier Road, Elk Grove Village, IL 60007, Officers: Craig A. Giever, Exec. Vice President, (Qualifying Individual), Stewart M. Brown, President

Ocean Freight Forwarder—Ocean Transportation Intermediary Applicants

Quality Recycling Services, Inc., 5559 Timmons Ave., Memphis, TN 38119, Officers: Linda C. Bone, Secretary, (Qualifying Individual), Frederick H. Bone, President

Max Intertrade Inc., 20085 NE. 3rd Court, North Miami, FL 33179, Officer: Maite R. Blanco, President, (Qualifying Individual)

Dated: November 16, 2007.
Karen V. Gregory,
Assistant Secretary.

[FR Doc. E7-22783 Filed 11-20-07; 8:45 am]

BILLING CODE 6730-01-P